DEPARTMENT OF ENERGY

Federal Energy Regulatory Commission

[Docket No. EC04-81-002, et al.]

Ameren Corporation, et al.; Electric Rate and Corporate Filings

September 2, 2004.

The following filings have been made with the Commission. The filings are listed in ascending order within each docket classification.

1. Ameren Corporation, Dynegy Inc., Illinova Corporation, Illinova Generating Company, Illinois Power Company

[Docket No. EC04-81-002]

Dynegy Midwest Generation, Inc. and Dynegy Power Marketing, Inc.

[Docket No. ER04-673-002]

Dynegy Power Marketing, Inc.

[Docket No. ER04-711-002]

Dynegy Power Marketing, Inc.

[[Docket No. ER99-4160-004]

Dynegy Midwest Generation, Inc.

[Docket No. ER00-1895-003]

Take notice that on August 30, 2004, Dynegy Power Marketing, Inc. (DYPM) and Dynegy Midwest Generation, Inc. (DMG) pursuant to section 205 of the Federal Power Act (FPA), 16 U.S.C. 824d, and part 35 of the Commission's regulations, 18 CFR part 35, submitted for filing, rate schedules implementing provisions for sales of market-based ancillary services in compliance with the Federal Energy Regulatory Commission's July 29, 2004 order in Ameren Corporation, 108 FERC ¶ 61,094. DYPM and DMG also submitted for filing revisions to their tariffs implementing the Market Behavior Rules, Investigation of Terms and Conditions of Public Utility Market-Based Rate Authorizations, 105 FERC ¶ 61,218 (2003).

DYPM and DMG request an effective date for the Market-Based Ancillary Services Tariffs of January 1, 2005 and December 17, 2003 for the Market Behavior Rules Tariffs.

Comment Date: 5 p.m. Eastern Time on September 20, 2004

2. White Pine Copper Refinery, Inc. and White Pine Electric Power, L.L.C.

[Docket Nos. EC04-137-000 and ER04-1047-001]

Take notice that on August 24, 2004, White Pine Copper Refinery, Inc. and White Pine Electric Power, L.L.C. tendered for filing Revised Original Sheet No. 1 of White Pine Electric Power LLC's FERC Electric Rate Schedules No. 1.

Comment Date: 5 p.m. Eastern Time on September 14, 2004.

3. Alpena Power Generation, L.L.C.

[Docket No. ER04-1004-000]

Take notice that on August 27, 2004, Alpena Power Generation, L.L.C. (Alpena Generation) tendered for filing a Supplement to Market-Based Rate Application and Request for Waiver containing additional cost information and a clarification regarding ancillary service sales. Alpena states that the application was previously filed on July 9, 2004.

Alpena Generation states that copies of the filing were served upon the public utility's jurisdictional customers and the Michigan Public Service Commission.

Comment Date: 5 p.m. Eastern Time on September 17, 2004.

4. Commonwealth Edison Company

[Docket No. ER04-1155-000]

Take notice that on August 27, 2004, Commonwealth Edison Company (ComEd) tendered a Notice of Cancellation of Original Service Agreement No. 1044 between it and Chicago Heights Energy Partners LLC (CHEP), under PJM Interconnection, LLC's FERC Electric Tariff, Sixth Revised Volume No. 1.

Comment Date: 5 p.m. Eastern Time on September 17, 2004.

5. Buckeye Power Generating, LLC

[Docket No. ER04-1157-000]

Take notice that on August 30, 2004, Buckeye Power Generating, LLC (BPG) tendered for filing a Power Purchase Agreement between BPG and Buckeye Power, Inc. (BPI). BPG states that the Power Purchase Agreement provides for the sale by BPG to BPI of all of the electric capacity and energy to which BPG is entitled under the Amended and Restated Inter-Company Power Agreement among the Ohio Valley Electric Corporation (OVEC) and OVEC's Sponsoring Companies. BPG proposes that the rate schedule comprising the Power Purchase Agreement be made effective on May 17, 2004.

BPG states that copies of the filing have been served on BPI and the Public Utilities Commission of Ohio.

Comment Date: 5 p.m. Eastern Time on September 20, 2004.

6. Brascan Energy Marketing Inc.

[Docket No. ER02-2407-002]

Take notice that, on August 27, 2004, Brascan Energy Marketing Inc. (BEMI) submitted for filing its triennial updated market analysis pursuant to Appendix A of the Federal Energy Regulatory Commission's August 27, 2001 letter order granting BEMI market-based rate authorization. See Maclaren Energy Inc., unpublished letter order issued in Docket Nos. ER01-2104-000 and ER01-2104-001 (August 27, 2001).

BEMI states that copies of the filing were served on parties on the official service list in the above-captioned proceeding.

Comment Date: 5 p.m. Eastern Time on September 17, 2004.

7. William C. Verrette

[Docket No. ID-4081-000]

Take notice that on June 29, 2004, William C. Verrette tendered for filing an Application for Authority to Hold Interlocking Positions under section 305(b) of the Federal Power Act, 16 U.S.C. 825(b).

Comment Date: 5 p.m. Eastern Time on September 13, 2004.

Standard Paragraph

Any person desiring to intervene or to protest this filing must file in accordance with Rules 211 and 214 of the Commission's Rules of Practice and Procedure (18 CFR 385.211 and 385.214). Protests will be considered by the Commission in determining the appropriate action to be taken, but will not serve to make protestants parties to the proceeding. Any person wishing to become a party must file a notice of intervention or motion to intervene, as appropriate. Such notices, motions, or protests must be filed on or before the comment date. Anyone filing a motion to intervene or protest must serve a copy of that document on the Applicant.

The Commission encourages electronic submission of protests and interventions in lieu of paper using the “eFiling” link at http://www.ferc.gov. Persons unable to file electronically should submit an original and 14 copies of the protest or intervention to the Federal Energy Regulatory Commission, 888 First Street, NE., Washington, DC 20426.

This filing is accessible on-line at http://www.ferc.gov, using the “eLibrary” link and is available for review in the Commission's Public Reference Room in Washington, DC. There is an “eSubscription” link on the Web site that enables subscribers to receive e-mail notification when a document is added to a subscribed docket(s). For assistance with any FERC Online service, please e-mail FERCOnlineSupport@ferc.gov, or call (866) 208-3676 (toll free). For TTY, call (202) 502-8659.

Magalie R. Salas,
Secretary.

[FR Doc. E4-2145 Filed 9-9-04; 8:45 am]

BILLING CODE 6717-01-P